ENVIRONMENTAL PROTECTION AGENCY

[ER-FRL-6665-5]

Environmental Impacts Statements; Notice of Availability

Responsible Agency: Office of Federal Activities, General Information (202) 564-7167 or http://www.epa.gov/compliance/nepa/.

Weekly receipt of Environmental Impact Statements

Filed 07/11/2005 through 07/15/2005

Pursuant to 40 CFR 1506.9.

EIS No. 20050290, Final EIS, NOA, AK, Pribilof Islands Setting for the Annual Subsistence Harvest of Northern Fur Seals, To Determine and Publish the Take Ranges, Pribilof Islands, AK, Wait Period Ends: 08/22/2005, Contact: James W. Balsiger 301-713-3318.

EIS No. 20050291, Final EIS, AFS, CO, Gold Camp Road Plan, Develop a Feasible Plan to Manage the Operation of Tunnel #3 and the 8.5 mile Road Segment, Pike National Forest, Pikes Peak Ranger District, Colorado Springs, El Paso County, CO, Wait Period Ends: 08/22/2005, Contact: Frank Landis 719-477-4203.

EIS No. 20050292, Draft EIS, USA, HI, Makua Military Reservation (MMR) Project, Proposed Military Training Activities, 25th Infantry Division (Light) and U.S. Army, HI, Comment Period Ends: 09/21/2005, Contact: Gary Shirakata 808-438-0772.

EIS No. 20050293, Draft EIS, WPA, AZ, Wellton-Mohawk Generating Facility Project, Construction and Operation a Natural Gas-Fired, Combined-Cycle, Electric Generating Stations, Approval for Right-of-Way, Yuma County, AZ, Comment Period Ends: 09/06/2005, Contact: Mark J. Wieringa 720-962-7448.

EIS No. 20050294, Revised Draft EIS, COE, CA, Mare Island Reuse of Dredged Material Disposal Ponds as a Confirmed Updated Dredged Material Disposal Facility, Issuing Section 404 Permit Clean Water Act and Section 10 Permit Rivers and Harbor Act, San Francisco Bay Area, City of Vallejo, Solando County, CA, Error: Revised Draft EIS 09/06/2005, Contact: Robert J. Lawrence 415-977-8020.

EIS No. 20050295, Draft EIS, AFS, CA, Bald Mountain Project, Proposes to Harvest Trees Using Group and Individual Trees Selection Methods, Feather River Ranger District, Plumas National Forest, Plumas and Butte Counties, CA, Comment Period Ends: 09/06/2005, Contact: Katherine Worn 530-534-6500.

EIS No. 20050296, Final EIS, TVA, TN, 500-kV Transmission Lin in Middle Tennessee Construction and Operation, Cumberland Fossil Plant to either the Montgomery 500-kV Substation, Montgomery County, or the Davidson 500-kV Substation, Davidson County, Stewart, Houston, Montgomery, Dickerson, Cheatham and Davidson Counties, TN, Wait Period Ends: 08/22/2005, Contact: Charles P. Nicholson 865-632-3582.

EIS No. 20050297, Draft EIS, SFW, WY, Bison and Elk Management Plan, Implementation, National Elk Refuge/Grand Teton National Park/John D. Rockefeller, Jr. Memorial Parkway, Teton County, WY, Comment Period Ends: 09/30/2005, Contact: Laurie Shannon 303-236-4317.

EIS No. 20050298, Draft EIS, AFS, UT, West Bear Vegetation Management Project, Timber Harvesting, Prescribed Burning, Roads Construction, Township 1 North, Range 9 East, Salt Lake Principle Meridian, Evanston Ranger District, Wasatch-Cache National Forest, Summit County, UT, Comment Period Ends: 09/06/2005, Contact: Larry Johnson 307-789-3194.

EIS No. 20050299, Draft EIS, SFW, CA, San Diego Bay National Wildlife Refuge Comprehensive Conservation Plan, Implementation, Sweetwater Marsh and South San Diego Bay Units, San Diego County, CA, Comment Period Ends: 09/19/2005, Contact: Victoria Touchstone 760-431-9440 Ex. 349.

EIS No. 20050300, Draft Supplemental EIS, NOA, 00, Reef Fish (Amendment 25) and Coastal Migatory Pelagic (CMP) (Amendment 17) Fishery Management Plans (FMP) for Extending the Charter Vessel/Headboat Permit Moratorium, Gulf of Mexico, Comment Period Ends: 09/06/2005, Contact: Andy Strelcheck 727-824-5305.

Dated: July 19, 2005.
Robert W. Hargrove,
Director, NEPA Compliance Division, Office of Federal Activities.

[FR Doc. 05-14546 Filed 7-21-05; 8:45 am]

BILLING CODE 6560-50-P